DEPARTMENT OF COMMERCE

Bureau of the Census

National Sunshine Week Public Event

AGENCY: Bureau of the Census, Department of Commerce.

ACTION: Notice of public event.

SUMMARY: The Bureau of the Census (U.S. Census Bureau) is announcing the following event, “Strengthening Transparency through Open Data and Access to Information,” in recognition of National Sunshine Week. In recognizing open government, the Census Bureau will hold public speaker sessions to educate and engage the public in open data and information efforts.

DATES: The public speaker sessions will be held on Wednesday, March 15 and Thursday, March 16, 2017, from 9:00 a.m. to 4:00 p.m. The Census Bureau also will co-host a kick-off event with the Department of Commerce (DOC) on March 14, 2017, from 9:00 a.m. to Noon at the Department of Commerce Research Library, 1401 Constitution Avenue NW., Washington, DC 20230. Registration is free, but advanced registration is required for both the kick-off event and the speaker sessions.

ADDRESSES: The public speaker sessions will be held in the U.S. Census Bureau Training Room, T-5, 4600 Silver Hill Road, Suitland, MD 20746.

FOR FURTHER INFORMATION CONTACT: Jennifer Goode or Karen Bronson at the Policy Coordination Office, Open Government Program, by telephone (301) 763-6440 or by email at pco.policy.office@census.gov.

For TTY callers, please call the Federal Relay Service (FRS) at 1-800-877-8339 and give them the above-listed number you would like to call. This service is free and confidential.

SUPPLEMENTARY INFORMATION: Individuals may attend the kick-off event at the DOC Research Library as seating capacity permits. Both the kick-off event and speaker sessions will also be available for public observation via call-in. Individuals seeking to attend the kick-off must register at https://www.eventbrite.com/e/sunshine-week-kickoff-event-at-the-department-of-commerce-tickets-31099862526 by 12:00 p.m. (EDT) on March 13. Individuals who wish to attend the speaker sessions at the Census Bureau must register at https://www.eventbrite.com/e/sunshine-week-at-the-census-bureau-tickets-31641194665 by 12:00 p.m. (EDT) on March 14. Agendas and call-in instructions will be provided upon registration.

The event will be physically accessible to people with disabilities. Individuals requiring accommodation such as sign language interpretation or other auxiliary aids should call Mary Kendall-Washington at (301) 763-6440 to request accommodations at least five business days in advance.

All registrants will be placed on a visitors' list. All visitors for the event must provide a government-issued photo identification in order to enter the building and receive a visitor's badge. For logistical questions, call Karen Bronson at (301) 763-6440.

Media interested in attending should call the Census Bureau's Public Information Office at (301) 763-3030.

Dated: February 15, 2017.
John H. Thompson,
Director, Bureau of the Census.

[FR Doc. 2017-03481 Filed 2-22-17; 8:45 am]

BILLING CODE 3510-07-P